DEPARTMENT OF THE INTERIOR

Bureau of Land Management

[NM-923-1430-ET; NMNM 055653]

Public Land Order No. 7645; Partial Revocation of Public Land Order No. 2051; New Mexico

AGENCY: Bureau of Land Management, Interior.

ACTION: Public land order.

SUMMARY: This order partially revokes a Public Land Order insofar as if affects 40.16 acres of public land withdrawn for use by the New Mexico College of Agriculture and Mechanic Arts, now New Mexico State University, for research purposes in connection with Federal programs.

EFFECTIVE DATE: October 31, 2005.

FOR FURTHER INFORMATION CONTACT: Gilda Fitzpatrick, BLM New Mexico State Office, 1474 Rodeo Road, Santa Fe, New Mexico 87502, 505-438-7597.

SUPPLEMENTARY INFORMATION: The land has been patented to a mining claimant. Since the land has been conveyed out of Federal ownership this is a record-clearing action only.

Order

By virtue of the authority vested in the Secretary of the Interior by Section 204 of the Federal Land Policy and Management Act of 1976, 43 U.S.C. 1714 (2000), it is ordered as follows:

Public Land Order No. 2051, which withdrew public land for use by the New Mexico College of Agriculture and Mechanic Arts, now New Mexico State University, for research purposes in connection with Federal programs, is hereby revoked insofar as it affects the following described land:

New Mexico Principal Meridian

T. 23 S., R. 2 E.,

Sec. 23, lots 19 and 20 (formerly described as S½ of lots 3 and 4).

The area described contains 40.16 acres in Dona Ana County.

Dated: September 13, 2005.
Rebecca W. Watson,
Assistant Secretary—Land and Minerals Management.

[FR Doc. 05-19645 Filed 9-29-05; 8:45 am]

BILLING CODE 4310-FB-P